DEPARTMENT OF THE TREASURY

Internal Revenue Service

26 CFR Part 1

[TD 9124]

RIN 1545-BA69

At-Risk Limitations; Interest Other Than That of a Creditor; Correction

AGENCY: Internal Revenue Service (IRS), Treasury.

ACTION: Correction to final regulations.

SUMMARY: This document contain a correction to final regulations that were published in the Federal Register on Monday, May 3, 2004 (69 FR 24078) relating to the treatment, for purposes of the at-risk limitations, of amounts borrowed from a person who has an interest in an activity other than that of a creditor or from a person (other than the borrower) with such an interest.

DATES: This correction is effective May 3, 2004.

FOR FURTHER INFORMATION CONTACT: Tara P. Volungis or Christopher L. Trump, (202) 622-3070 (not a toll-free number).

SUPPLEMENTARY INFORMATION:

Background

The final regulations that is the subject of this correction is under section 465 of the Internal Revenue Code.

Need for Correction

As published, the final regulation contains an error that may prove to be misleading and is in need of clarification.

Correction of Publication

Accordingly, the publication of the final regulations (TD 9124), that were the subject of FR Doc. 04-10010, is corrected as follows:

§ 1.465-8 [Corrected]

In § 1.465-8(b)(4), Example 1., the language, “$30,000 payable to A. The three partners, B, C, and D, each assumes personal liability for”. is corrected to read “$30,000 payable to A. Each of the three partners, B, C, and D, assumes personal liability for”.

Cynthia E. Grigsby,
Acting Chief, Publications and Regulations Branch, Legal Processing Division, Associate Chief Counsel (Procedures and Administration).

[FR Doc. 04-10789 Filed 5-11-04; 8:45 am]

BILLING CODE 4830-01-P